CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, CNCS is soliciting comments concerning its proposed renewal of AmeriCorps Application Instructions: State Commissions; State and National Competitive, Professional Corps; Indian Tribes; States and Territories without Commissions, and State and National Planning Grants Applicants. Applicants will respond to the questions in this ICR in order to apply for funding through these grant competitions.

Copies of the information collection request can be obtained by contacting the office listed in the Addresses section of this Notice.

DATES: Written comments must be submitted to the individual and office listed in the ADDRESSES section by March 24, 2017.

ADDRESSES: You may submit comments, identified by the title of the information collection activity, by any of the following methods:

(1) By mail sent to: Corporation for National and Community Service, Attention: Jill Graham, Senior Program and Project Specialist, Room 3219B, 250 E Street SW., Washington, DC, 20525.

(2) By hand delivery or by courier to the CNCS mailroom at Room 4300 at the mail address given in paragraph (1) above, between 9:00 a.m. and 4:00 p.m. Eastern Time, Monday through Friday, except Federal holidays.

(3) Electronically through the CNCS email system: jgraham@cns.gov.

Individuals who use a telecommunications device for the deaf (TTY-TDD) may call 1-800-833-3722 between 8:00 a.m. and 8:00 p.m. Eastern Time, Monday through Friday.

FOR FURTHER INFORMATION CONTACT: Jill Graham, 202-606-6905, jgraham@cns.gov

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

These application instructions will be used by applicants for funding through AmeriCorps State and National Grant Competitions.

Current Action

CNCS seeks to renew the current AmeriCorps State and National Application Instructions. The information collection will be used in the same manner as the existing Instructions. CNCS also seeks to continue using the current application until the revised application is approved by OMB. The current application is due to expire on January 31, 2017.

Type of Review: Renewal

Agency: Corporation for National and Community Service.

Title: AmeriCorps Application Instructions: State Commissions, State and National Competitive; Professional Corps; Indian Tribes; States and Territories without Commissions; and State and National Planning.

OMB Number: 3045-0047.

Agency Number: None.

Affected Public: Nonprofit organizations, State, Local, and Tribal.

Total Respondents: 1159.

Frequency: Annually.

Average Time Per Response: Averages 80 hours.

Estimated Total Burden Hours: 92720.

Total Burden Cost (capital/startup): None.

Total Burden Cost (operating/maintenance): None.

Comments submitted in response to this notice will be summarized and/or included in the request for Office of Management and Budget approval of the information collection request; they will also become a matter of public record.

Dated: January 13, 2017.
Jennifer Bastress Tahmasebi,
Acting Director, AmeriCorps State and National.

[FR Doc. 2017-01292 Filed 1-19-17; 8:45 am]

BILLING CODE 6050-28-P